DEPARTMENT OF THE TREASURY

Office of Foreign Assets Control

31 CFR Part 550

Publication of Ethiopia Sanctions Regulations Web General License 4

AGENCY: Office of Foreign Assets Control, Treasury.

ACTION: Publication of web general license.

SUMMARY: The Department of the Treasury's Office of Foreign Assets Control (OFAC) is publishing one general license (GL) issued pursuant to the Ethiopia Sanctions Regulations: GL 4, which was previously made available on OFAC's website.

DATES: GL 4 was issued on November 12, 2021. See SUPPLEMENTARY INFORMATION for additional relevant dates.

FOR FURTHER INFORMATION CONTACT: OFAC: Assistant Director for Licensing, 202-622-2480; Assistant Director for Regulatory Affairs, 202-622-4855; or Assistant Director for Compliance, 202-622-2490.

SUPPLEMENTARY INFORMATION:

Electronic Availability

This document and additional information concerning OFAC are available on OFAC's website: https://ofac.treasury.gov.

Background

On November 12, 2021, OFAC issued GL 4 to authorize certain transactions otherwise prohibited by Executive Order (E.O.) 14046 of September 17, 2021, “Imposing Sanctions on Certain Persons With Respect to the Humanitarian and Human Rights Crisis in Ethiopia” (86 FR 52389). On February 9, 2022, OFAC incorporated the prohibitions of E.O. 14046 into the Ethiopia Sanctions Regulations, 31 CFR part 550. GL 4 was made available on OFAC's website (https://ofac.treasury.gov) when it was issued. GL 4 is now expired. The text of this GL is provided below.

OFFICE OF FOREIGN ASSETS CONTROL

Executive Order 14046 of September 17, 2021

Imposing Sanctions on Certain Persons With Respect to the Humanitarian and Human Rights Crisis in Ethiopia

GENERAL LICENSE NO. 4

Authorizing the Wind Down of Transactions Involving Hidri Trust or Red Sea Trading Corporation

(a) Except as provided in paragraph (b) of this general license, all transactions and activities prohibited by Executive Order (E.O.) 14046 that are ordinarily incident and necessary to the wind down of transactions involving Hidri Trust or Red Sea Trading Corporation are authorized through 12:01 a.m. eastern standard time, December 14, 2021.

Note to paragraph (a): OFAC's 50 Percent Rule does not apply to persons blocked solely pursuant to the blocking sanctions in section 2(a)(i)(A) of E.O. 14046.

(b) This general license does not authorize:

(1) Any debit to an account on the books of a U.S. financial institution of any blocked person under E.O. 14046; or

(2) Any transactions or activities otherwise prohibited by E.O. 14046, or prohibited by any part of 31 CFR chapter V, statute, or other E.O., or involving any blocked person other than the blocked persons identified in paragraph (a) of this general license.

Bradley T. Smith,

Acting Director, Office of Foreign Assets Control.

Dated: November 12, 2021.

Bradley T. Smith,
Director, Office of Foreign Assets Control.

[FR Doc. 2023-20160 Filed 9-18-23; 8:45 am]

BILLING CODE 4810-AL-P